DEPARTMENT OF AGRICULTURE

Submission for OMB Review; Comment Request

December 4, 2008.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Pamela_Beverly_OIRA;_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Cooperative State Research, Education, and Extension Service

Title: CSREES Proposal Review Process.

OMB Control Number: 0524-0041.

Summary of Collection: The Cooperative State Research, Education, and Extension Service (CSREES) is responsible for performing a review of proposals submitted to CSREES competitive awards programs in accordance with section 103(a) of the Agricultural Research, Extension, and Education Reform Act, of 1998, 7 U.S.C. 7613(a). Reviews are undertaken to ensure that projects supported by CSREES are of high quality and are consistent with the goals and requirements of the funding program. Proposals submitted to CSREES undergo a programmatic evaluation to determine worthiness of Federal support. The evaluations consist of a peer panel review and may also entail an assessment by Federal employees. CSREES will collect information using the “Proposal Review Sheet” or the “Reviewer Worksheet”, and a Reviewer Questionnaire.

Need and Use of the Information: The collected information from the evaluations is used to support CSREES grant programs. CSREES uses the results of each proposal to determine whether a proposal should be declined or recommended for award. If this information is not collected, it would be difficult for a review panel and CSREES staff to determine which projects warrant funding, or identify appropriate qualified reviewers. In addition, Federal grants staff and auditors could not assess the quality or integrity of the review, and the writer of the application would not benefit from any feedback on why the application was funded or not.

Description of Respondents: Not-for-profit institutions; Business or other for-profit; Individuals or households; Federal Government; State, Local or Tribal Government; Farms.

Number of Respondents: 12,600.

Frequency of Responses: Reporting: On occasion; Annually.

Total Burden Hours: 78,650.

Ruth Brown,
Departmental Information Collection Clearance Officer.

[FR Doc. E8-29092 Filed 12-8-08; 8:45 am]

BILLING CODE 3410-09-P